DEPARTMENT OF TRANSPORTATION

Office of the Secretary

Aviation Proceedings, Agreements Filed the Week Ending September 17, 2004

The following Agreements were filed with the Department of Transportation under the provisions of 49 U.S.C. 412 and 414. Answers may be filed within 21 days after the filing of the application.

Docket Number: OST-2004-19112.

Date Filed: September 13, 2004.

Parties: Members of the International Air Transport Association.

Subject:

PTC1 0300 dated 20 August 2004

TC1 Areawide Resolutions r1-r3, PTC1 0301 dated 20 August 2004

TC1 Caribbean Resolutions r4-r16

TC1 0302 dated 20 August 2004

TC1 Longhaul (except USA-Chile, Panama) Resolutions r17-r55

TC1 0303 dated 20 August 2004

TC1 Longhaul USA-Chile, Panama Resolutions r56-r70

PTC1 0304 dated 20 August 2004

TC1 Within South America Resolutions r71-r82

Intended effective date: 1 November 2004/1 January 2005.

Andrea M. Jenkins,
Program Manager, Docket Operations, Federal Register Liaison.

[FR Doc. 04-21979 Filed 9-29-04; 8:45 am]

BILLING CODE 4910-62-P